DEPARTMENT OF THE INTERIOR

Bureau of Land Management

[ES-930-00-143HN LRTN]

Notice of Intent To Prepare Planning Analysis/Environmental Assessment and Notice of Exchange Proposal in Fairfax County, VA

AGENCY: Bureau of Land Management, Department of the Interior.

ACTION: Notice.

SUMMARY: The Bureau of Land Management (BLM), Eastern States, will prepare a Planning Analysis/Environmental Assessment (PAE/EA) to examine the proposed exchange of Federal land at the former Lorton Correctional Complex, Lorton, Virginia, for private land of equal value in the Mason Neck area of Fairfax County. The planning will follow the procedures set forth in 43 CFR, Subpart 1600. Processing the land exchange will take place pursuant to Section 206 of the Federal Land Policy and Management Act (43 USC 1716), as amended, and follow procedures set forth in 43 CFR Subpart 2200.

DATE: Comments will be accepted through May 12, 2000. To be considered in the planning analysis/environmental assessment of the proposed exchange and in processing the exchange, comments relating to the identification of planning issues, alternatives, and criteria must be made in writing to the State Director and be postmarked or delivered by May 12, 2000.

ADDRESS: Send comments to State Director, Bureau of Land Management, Eastern States (ES-930), 7450 Boston Blvd., Springfield, Virginia 22153.

FOR FURTHER INFORMATION CONTACT: Walt Rewinski at 703-440-1727.

SUPPLEMENTARY INFORMATION: The Lorton Technical Corrections Act of 1998 gave the Department of the Interior (DOI) the opportunity to select and receive lands managed by the General Services Administration (GSA) at the Lorton Correctional Complex in Lorton, Virginia. DOI assigned processing the proposed land exchange to BLM. GSA would transfer the requested land to BLM for a possible land exchange. The Act also required that the use of these lands be consistent with the Reuse Plan. The Fairfax County Comprehensive Plan was amended July 26, 1999, and became the Reuse Plan. The Reuse Plan identifies some of the land north of Silverbrook Road for residential development (about 205 acres) and an elementary school site (about 15 acres).

The Federal land at the Lorton Correctional Complex to be considered for exchange is the developable land north of Silverbrook Road as identified in the Reuse Plan.

In exchange, the United States would acquire all or a significant part of the property known as Meadowood Farm on Mason Neck at 10406 Gunston Road, Lorton, Virginia 22079. Both the Federal and non-Federal lands are in Fairfax County, Virginia. The private party participating in the exchange is the Meadowood Farm Limited Partnership, owner of Meadowood Farm.

The public is invited to participate in the land exchange and planning process, beginning with scoping to identify issues to be addressed, alternatives to be analyzed, and criteria to be considered in making a decision, Criteria include applicable laws, regulations, and policies. If identified through public participation, additional criteria may be developed. The scoping period is an opportunity to identify any liens, encumbrances or other title claims on both the Federal and non-Federal land.

Public participation is an integral and important part of the planning and exchange processes. We intend to involve all interested or affected parties. The planning team will seek input from groups and individuals through public meetings, direct mailings, personal contacts, and coordination with local, state and other federal agencies.

A public meeting will be held at 7:30 pm on Wednesday, April 12, 2000, at the BLM office located at 7450 Boston Blvd., Springfield, Virginia 22153. At the meeting BLM will present information about the planning and exchange processes, and gather public input.

The PA/EA will be prepared by an interdisciplinary team of cultural and natural resource specialists. Technical support and mapping will be provided as needed.

Records of the planning process will be available for public review at the BLM, Eastern States, 7450 Boston Blvd., Springfield, Virginia 22153.

Dated: March 27, 2000.
Walter Rewinksi,
Deputy State Director, Division of Resources Planning, use and Protection.

[FR Doc. 00-7928 Filed 3-29-00; 8:45 am]

BILLING CODE 4310-GJ-M